SMALL BUSINESS ADMINISTRATION

[Declaration of Disaster #3276]

State of Ohio

As a result of the President's major disaster declaration on August 21, 2000, I find that Lucas County, Ohio constitutes a disaster area due to damages caused by severe storms and flooding beginning on July 29, 2000, and continuing through August 2, 2000. Applications for loans for physical damage as a result of this disaster may be filed until the close of business on October 20, 2000 and for economic injury until the close of business on May 21, 2001 at the address listed below or other locally announced locations:

U.S. Small Business Administration, Disaster Area 2 Office, One Baltimore Place, Suite 300, Atlanta, GA 30308

In addition, applications for economic injury loans from small businesses located in the following contiguous counties may be filed until the specified date at the above location: Fulton, Henry, Ottawa, and Wood Counties in Ohio and Lenawee and Monroe Counties in Michigan.

The interest rates are:

For Physical Damage: | Per- cent
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury:
Businesses and small agricultural cooperatives without credit available elsewhere | 4.000

The number assigned to this disaster for physical damage is 327606. For economic injury the numbers are 9I0400 for Ohio and 9I0500 for Michigan.

(Catalog of Federal Domestic Assistance Program Nos. 59002 and 59008).

Dated: August 23, 2000.
Herbert L. Mitchell,
Acting Associate Administrator for Disaster Assistance.

[FR Doc. 00-22232 Filed 8-30-00; 8:45 am]

BILLING CODE 8025-01-P